DEPARTMENT OF HOMELAND SECURITY

Docket No. CISA-2024-0019]

Agency Information Collection Activities: Statewide Communication Interoperability Plan Template and Progress Report

AGENCY: Cybersecurity and Infrastructure Security Agency (CISA), Department of Homeland Security (DHS).

ACTION: 60-Day notice and request for comments.

SUMMARY: The Emergency Communications Division (ECD) within Cybersecurity and Infrastructure Security Agency (CISA) submits the following Information Collection Request (ICR) renewal to the Office of Management and Budget (OMB) for review and clearance in accordance with the Paperwork Reduction Act of 1995.

DATES: Comments are encouraged and will be accepted until September 6, 2024.

ADDRESSES: You may submit comments, identified by docket number Docket #CISA-2024-0019, by following the instructions below for submitting comment via the Federal eRulemaking Portal at http://www.regulations.gov.

Instructions: All comments received must include the agency name and docket number Docket #CISA-2024-0019. All comments received will be posted without change to http://www.regulations.gov, including any personal information provided.

Docket: For access to the docket to read background documents or comments received, go to http://www.regulations.gov.

FOR FURTHER INFORMATION CONTACT: Heather Dalton, 202-809-2747 heather.dalton@cisa.dhs.gov.

SUPPLEMENTARY INFORMATION: The Department of Homeland Security, Cybersecurity and Infrastructure Security Agency (CISA), formerly known as the National Protection and Programs Directorate, Emergency Communications Division (ECD), formed under title XVIII of the Homeland Security Act of 2002, 6 U.S.C. 571 et seq., is required, pursuant to 6 U.S.C. 572, to develop the National Emergency Communications Plan (NECP), which includes identification of goals, timeframes, and appropriate measures to achieve interoperable communications capabilities. The Statewide Communication Interoperability Plan (SCIP) Template and Annual SCIP Snapshot Report are designed to meet and support these statutory requirements. The ECD SCIP Team will hold webinars and a workshop with the State Statewide Interoperability Coordinator (SWIC) and their stakeholders to review the states goals and objectives in becoming more interoperable over the next two to three years. The SCIP Team then puts the information collected from the webinars and workshops with the SWIC and stakeholders into the SCIP template. The SWIC governance body reviews and approves the documents before it is then signed by the state and becomes a state document. CISA does not own this document. CISA archives the information collected in a tracking system called the CommsCollab until it is time for the state to update this document in two to three years as mandated by Congress.

ECD will use the information from the SCIP Template and Annual SCIP Snapshot to track the progress States are making in implementing milestones and demonstrating goals of the NECP, as required through the Homeland Security Act of 2002, 6 U.S.C. 572. The SCIP Template and Annual SCIP Snapshot will provide ECD with broader capability data across the lanes of the Interoperability Continuum, which are key indicators of consistent success in response-level communications.

In addition, the SCIP Template and the SCIP Snapshot will assist States in their strategic planning for interoperable and emergency communications while demonstrating each State's achievements and challenges in accomplishing optimal interoperability for emergency responders. Moreover, certain government grants may require States to update their SCIP Templates and SCIP Snapshot to include broadband efforts to receive funding for interoperable and emergency communications.

Statewide Interoperability Coordinators (SWICs) will be responsible for collecting this information from their respective stakeholders and governance bodies and will complete and submit the SCIP Snapshots directly to ECD through unclassified electronic submission.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Cybersecurity and Infrastructure Security Agency (CISA), Department of Homeland Security (DHS).

Title: Statewide Communication Interoperability Plan (SCIP) Template and Annual SCIP Snapshot.

OMB Number: 1670-0017.

Frequency: Annually.

Affected Public: State, local, Tribal, and Territorial governments.

Number of Respondents: 56.

Estimated Time per Respondent: 6.

Total Burden Hours: 336.

Annualized Respondent Cost: $29,950.

Total Annualized Government Cost: $18,208.

Robert J. Costello,
Chief Information Officer, Department of Homeland Security, Cybersecurity and Infrastructure Security Agency.

[FR Doc. 2024-14922 Filed 7-5-24; 8:45 am]

BILLING CODE 9111-LF-P